DEPARTMENT OF ENERGY

Federal Energy Regulatory Commission

[Docket No. RP04-279-001

Texas Gas Transmission, LLC; Notice of Compliance Filing

June 14, 2004.

Take notice that on June 7, 2004, Texas Gas Transmission, LLC (Texas Gas), submitted a compliance filing in the above-referenced docket.

Texas Gas states that the purpose of this filing is to comply with the Commission's directives as stated in a letter order issued on May 27, 2004, in response to Texas Gas's tariff filing dated April 30, 2004.

Texas Gas states that copies of this compliance filing are being mailed to all parties on the official service list in this docket, to Texas Gas's official service list, to Texas Gas's jurisdictional customers, and to interested state commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eFiling link.

Magalie R. Salas,
Secretary.

[FR Doc. E4-1381 Filed 6-18-04; 8:45 am]

BILLING CODE 6717-01-P